DEPARTMENT OF COMMERCE

National Oceanic and Atmospheric Administration

RIN 0648-XD040

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permit 16344 to Dr. Jerri Bartholomew, Oregon State University, Corvalis Oregon.

ADDRESSES: The application, permit, and related documents are available for review by appointment at: Protected Resources Division, NMFS, 1655 Heindon Road, Arcata, CA 95521.

FOR FURTHER INFORMATION CONTACT: Diane Ashton at 707-825-5185, or email: diane.ashton@noaa.gov.

SUPPLEMENTARY INFORMATION:

Authority

The issuance of permits and permit modifications, as required by the Endangered Species Act of 1973 (16 U.S.C. 1531-1543) (ESA), is based on a finding that such permits/modifications: (1) Are applied for in good faith; (2) Would not operate to the disadvantage of the listed species which are the subject of the permits; and (3) Are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast coho salmon (Oncorhynchus kisutch).

Permit Issued

A notice of the receipt of an application for a scientific research permit (16344) was published in the Federal Register on April 14, 2011 (76 FR 20956). Permit 16344 was issued to Dr. Jerri Bartholomew on December 10, 2013.

Permit 16344 authorizes Dr. Jerri Bartholomew to obtain juvenile Southern Oregon/Northern California Coast coho salmon of hatchery origin for field and laboratory studies of effects of disease upon exposure to the myxozoan parasite.

Ceratomyxa shasta

Permit 16344 authorizes directed mortality of juvenile Southern Oregon/Northern California Coast coho salmon of hatchery origin, following completion of the studies.

Permit 16344 is for research to be conducted in the Klamath River, California, and at the John L. Fryer Salmon Disease Laboratory at Oregon State University in Corvalis, Oregon. The purpose of the research is to provide information to NMFS for evaluation of water management decisions to minimize disease risks to juvenile Southern Oregon/Northern California Coast coho salmon in the Klamath River; and to evaluate habitat restoration and management actions. Permit 16344 expires on December 31, 2018.

Dated: December 19, 2013.
Angela Somma,
Chief, Endangered Species Division, Office of Protected Resources, National Marine Fisheries Service.

[FR Doc. 2013-30624 Filed 12-23-13; 8:45 am]

BILLING CODE 3510-22-P